DEPARTMENT OF COMMERCE

International Trade Administration

U.S.-China Environmental Industries Forum

AGENCY: International Trade Administration, DOC.

ACTION: Notice and Request for Comment.

SUMMARY: This notice sets forth a request for input from private businesses, trade associations, academia, labor organizations, non-governmental organizations, and other interested parties regarding foreign or domestic policies or conditions that impede U.S. environmental technology exports to China, with emphasis on those pertaining to water management. This may include, but is not limited to, the development of Chinese environmental regulations, licensing procedures, technical standards, and laws, or issues pertaining to their enforcement, that create barriers to trade. Comments may also propose approaches intended to strengthen the U.S.-China trade relationship in this sector. This input will be used to guide the Environment Working Group of the U.S.-China Joint Commission on Commerce and Trade (JCCT) in its formulation of a U.S.-China Environmental Industries Forum conference agenda, the development of related projects, and to outline trade issues to be addressed within the framework of the JCCT.

DATES: The Second EIF is scheduled for: Wednesday, October 6, 2010, from approximately 9 a.m. to 5 p.m. Eastern Daylight Time (EDT) at the Hilton Riverside New Orleans Hotel, New Orleans, LA.

ADDRESSES: To provide input to the JCCT Environment Working Group, please send comments by post, e-mail, or fax to the attention of Todd DeLelle, Office of Energy & Environmental Industries, International Trade Administration, U.S. Department of Commerce, 1401 Constitution Ave., NW., Room 4053, Washington, DC 20230; 202-482-4877; e-mail todd.delelle@trade.gov; fax 202-482-5665. Electronic responses should be submitted in Microsoft Word format. Information identified as confidential will be protected to the extent permitted by law.

FOR FURTHER INFORMATION CONTACT: Mr. Todd DeLelle, Office of Energy & Environmental Industries, International Trade Administration, Room 4053, 1401 Constitution Ave., NW., Washington, DC 20230. (Phone: 202-482-4877; Fax: 202-482-5665; e-mail: todd.delelle@trade.gov).

SUPPLEMENTARY INFORMATION: Background: The biennial U.S.-China Environmental Industries Forum was created by the JCCT Environment Working Group co-chairing agencies (U.S. Environmental Protection Agency, U.S. Department of Commerce, and Chinese Ministry of Environmental Protection) to encourage dialogue between representatives from the U.S. and Chinese governments and their respective environmental industries on a variety of environmental technology, trade, and policy issues. These discussions intend to enhance cooperation in environmental protection and increase bilateral trade in products and services related to the environmental sector. The Second EIF will focus on water/wastewater management issues and related technologies.

Dated: July 1, 2010.
Henry P. Misisco,
Deputy Assistant Secretary for Manufacturing, Acting.

[FR Doc. 2010-16581 Filed 7-7-10; 8:45 am]

BILLING CODE 3510-DR-P